DEPARTMENT OF TRANSPORTATION

Federal Aviation Administration

14 CFR Part 71

[Docket No. FAA-2017-9378; Airspace Docket No. 17-ASW-13]

RIN 2120-AA66

Establishment of Class D and E Airspace, and Amendment of Class E Airspace; Austin, TX

AGENCY: Federal Aviation Administration (FAA), DOT.

ACTION: Final rule.

SUMMARY: This action establishes Class D airspace, Class E surface airspace, and amends Class E airspace extending upward from 700 feet above the surface at Austin Executive Airport, Austin, TX. The FAA conducted an airspace review and determined that airspace redesign is necessary due to the establishment of an air traffic control tower at the airport. Also, an editorial change is made removing the city associated with the airport names in the exiting Class E airspace. This action enhances the safety and management of instrument flight rules (IFR) operations at these airports. Additionally, exclusionary language is added, which was inadvertently left out of the Class D airspace description, and the geographic coordinates are corrected for Lago Vista-Rusty Allen Airport.

DATES: Effective 0901 UTC, January 3, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Rebecca Shelby, Federal Aviation Administration, Operations Support Group, Central Service Center, 10101 Hillwood Parkway, Fort Worth, TX 76177; telephone (817) 222-5857.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would support IFR operations at Austin Executive Airport, Austin, TX.

History

On February 1, 2018, the FAA published in the Federal Register a notice of proposed rulemaking (NPRM) to establish Class D and Class E surface airspace, and amend Class E airspace extending upward from 700 feet above the surface at Austin Executive Airport, Austin, TX (83 FR 4613) Docket No. FAA-2017-9378.

Subsequent to publication, the FAA found the Class C airspace exclusion was omitted from the Class D airspace description for Austin Executive Airport. Also, the geographic coordinates for Lago Vista-Rusty Allen Airport are updated in this rule.

Interested parties were invited to participate in this rulemaking effort by submitting written comments on the proposal to the FAA. Five comments were received in support of the proposal.

In their comment, AOPA stated that the NPRM did not comply with FAA guidance in FAA Order 7400.2L, Procedures for Handling Airspace Matters, because a graphic was not included in the docket. Additionally, AOPA encouraged the FAA to follow their guidance in the Order by making the action effective date coincidental to the sectional chart publication date.

The FAA has determined AOPA's comments raised no substantive issues with respect to the proposed changes to the airspace addressed in the NPRM. To the extent the FAA failed to follow its policy guidance reference publishing graphics in the docket and establishing the Class D airspace effective date to match the sectional chart date, we note the following.

Specific to AOPA's comment regarding the FAA already creating a graphical depiction of new or modified airspace overlaid on a Sectional Chart for quality assurance purposes, this is not correct nor required in all cases. During the airspace reviews, airspace graphics may be created, if deemed necessary, to determine if there are any terrain issues, or if cases are considered complex. However, in many cases when developing an airspace amendment proposal, a graphic is not required.

With respect to AOPA's comment addressing effective dates, FAA Order 7400.2L, paragraph 2-3-7.a.4. states that, to the extent practicable, Class D airspace area and restricted area rules should become effective on a sectional chart date and that consideration should be given to selecting a sectional chart date that matches a 56-day en route chart cycle date. The FAA does consider Class D and E airspace amendment effective dates to coincide with the publication of sectional charts, to the extent practicable; however, this consideration is accomplished after the NPRM comment period ends in the final rule. Substantive comments received to NPRMs, flight safety concerns, management of IFR operations at affected airports, and immediacy of required proposed airspace amendments are some of the factors that must be taken into consideration when selecting the appropriate effective date. After considering all factors, the FAA may determine that selecting an effective date that conforms to a 56-day en route chart cycle date that is not coincidental to sectional chart dates is better for the National Airspace System and its users than awaiting the next sectional chart date.

Class D and E airspace designations are published in paragraph 5000, 6002, and 6005, respectively, of FAA Order 7400.11C, dated August 13, 2018, and effective September 15, 2018, which is incorporated by reference in 14 CFR 71.1. The Class D and E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

The FAA amends Title 14 Code of Federal Regulations (14 CFR) part 71 by:

Establishing Class D airspace at Austin Executive Airport, Austin, TX, within a 4.1-mile radius of the airport, and adding to the airspace description “excluding the Austin Class C airspace”. Establishing Class E surface airspace within a 4.1-mile radius of Austin Executive Airport, Austin, TX; and

Amending Class E airspace extending upward from 700 feet above the surface to within a 6.3-mile radius (decreased from a 6.5-mile radius) of Austin Executive Airport, and within 2 miles each side of the 131° bearing (previously the 132° bearing) from the airport extending from the 6.3-mile radius to 11.3 miles (increased from a 10.4-miles) southeast of the airport, and within 2 miles each side of the 311° bearing from the airport extending from the 6.3-mile radius to 10.5 miles (decreased from 11.2 miles) northwest of the airport. Also, due to a change to FAA Order 7400.2L, Procedures for Handling Airspace Matters, the city name is removed from Lakeway Airpark, Austin Executive Airport, and Lago Vista-Rusty Allen Airport.

Class D and E airspace areas are published in paragraph 5000, 6002, and 6005, respectively, of FAA Order 7400.11C, dated August 13, 2018, and effective September 15, 2018, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

ASW TX D Austin, TX [New]

Austin Executive Airport, TX

(Lat. 30°23′51″ N, long. 97°33′59″ W)

That airspace extending upward from the surface to and including 3,000 feet MSL within a 4.1-mile radius of Austin Executive Airport, excluding the Austin Class C airspace. This Class D airspace area is effective during the specific dates and times established in advance by a Notice to Airmen. The effective date and time will thereafter be continuously published in the Chart Supplement.

* * * * *

Paragraph 6002 Class E Surface Area Airspace.

ASW TX E2 Austin, TX [New]

Austin Executive Airport, TX

(Lat. 30°23′51″ N, long. 97°33′59″ W)

That airspace within a 4.1-mile radius of Austin Executive Airport, excluding the Austin Class C airspace. This Class E airspace area is effective during the specific dates and times established in advance by a Notice to Airmen. The effective date and time will thereafter be continuously published in the Chart Supplement.

* * * * *

Paragraph 6005 Class E Airspace Areas Extending Upward From 700 Feet or More Above the Surface of the Earth.

ASW TX E5 Austin, TX [Amended]

Point of Origin

(Lat. 30°17′55″ N, long. 97°42′06″ W)

Lakeway Airpark, TX

(Lat. 30°21′27″ N, long. 97°59′40″ W)

Austin Executive Airport, TX

(Lat. 30°23′51″ N, long. 97°33′59″ W)

Lago Vista-Rusty Allen Airport, TX

(Lat. 30°29′55″ N, long. 97°58′10″ W)

That airspace extending upward from 700 feet above the surface within a 14-miles radius of the Point of Origin, and within a 6.4-mile radius of Lakeway Airpark, and within a 6.4-mile radius of Lago Vista-Rusty Allen Airport, and within a 6.3-mile radius of Austin Executive Airport, and within 2 miles each side of the 131° bearing from Austin Executive Airport, extending from the 6.3-mile radius to 11.3 miles southeast of the airport, and within 2 miles each side of the 311° bearing from Austin Executive Airport extending from the 6.3-mile radius to 10.5 miles northwest of the airport.

Issued in Fort Worth, Texas, on October 3, 2018.
Walter Tweedy,
Manager (A), Operations Support Group, ATO Central Service Center.

[FR Doc. 2018-22185 Filed 10-12-18; 8:45 am]

BILLING CODE 4910-13-P